DEPARTMENT OF JUSTICE

Notice of Lodging of Proposed Consent Decree Under the Resource Conservation and Recovery Act and Other Statutes

On October 13, 2021, the Department of Justice lodged a proposed Consent Decree with the United States District Court for the Eastern District of Texas in the lawsuit entitled United States and State of Texas v. E.I. du Pont de Nemours and Company and Performance Materials NA, Inc., Case No. 1:21-cv-00516, for violations of federal and state environmental laws during their respective periods of ownership and operation of an ethylene production facility located in Orange, Texas.

The proposed Consent Decree resolves the claims of the United States and the State of Texas under (1) the Resource Conservation and Recovery Act, 42 U.S.C. 6901 et seq., implementing regulations and the authorized program under the Texas Solid Waste Disposal Act (Texas Health and Safety Code ch. 361), (2) the Clean Air Act, 42 U.S.C. 7401 et seq., implementing regulations, and Texas Clean Air Act (Tex. Health and Safety Code ch. 382), and (3) the Clean Water Act, 33 U.S.C. 1251, et seq., implementing regulations, and the Texas Water Code ch. 26 and the general enforcement authority of Texas Water Code ch. 7. The Consent Decree provides for payment of a civil penalty of $3,100,000 ($1,675,000 to the United States and $1,425,000 to the State of Texas), payment of attorneys' fees to the State of Texas, and performance of injunctive relief to resolve the violations alleged in the Complaint.

The publication of this notice opens a period for public comment on the Consent Decree. Comments should be addressed to the Assistant Attorney General, Environment and Natural Resources Division, and should refer to entitled United States and State of Texas v. E.I. du Pont de Nemours and Company and Performance Materials NA, Inc.. Case No. 1:21-cv-00516, D.J. Ref. No. 90-7-1-10173. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $15.50 (25 cents per page reproduction cost) for the Consent Decree or $24.75 (25 cents per page reproduction cost) for the Consent Decree and Appendices, payable to the United States Treasury.

Karen Dworkin,
Deputy Chief, Environmental Enforcement Section, Environment and Natural Resources Division.

[FR Doc. 2021-22762 Filed 10-19-21; 8:45 am]

BILLING CODE 4410-15-P